DEPARTMENT OF ENERGY

Federal Energy Regulatory Commission

[Docket No. CP21-94-000]

Transcontinental Gas Pipe Line Company, LLC; Notice of Applcation and Establishing Intervention Deadline

Take notice that on March 26, 2021, Transcontinental Gas Pipe Line Company, LLC (Transco), P.O. Box 1396, Houston, Texas 77251, filed in the above referenced docket an application pursuant to section 7(b) and 7(c) of the Natural Gas Act (NGA) and Parts 157 and 284 of the Commission's regulations to construct, install, modify, operate and maintain its Regional Energy Access Expansion (REAE Project), an expansion of Transco's existing pipeline system that will enable Transco to provide an additional 829,400 dekatherms per day of firm transportation service to shippers (Project Shippers), and to abandon certain compression facilities. Transco estimates that the REAE Project will cost approximately $950.05 million, all as more fully set forth in the request which is on file with the Commission and open to public inspection.

Specifically, Transco proposes to: (1) Construct 22.3 miles of 30-inch-diameter pipeline in Luzerne County, Pennsylvania; (2) construct 13.8 miles of 42-inch-diameter pipeline in Monroe County, Pennsylvania; (3) construct the new 11,107 hp Compressor Station 201 in Gloucester County, New Jersey; (4) construct an additional 15,800 hp at its existing Compressor Station 505 in Somerset County, New Jersey; (5) construct an additional 46,742 hp at its existing Compressor Station 515 in Luzerne County, Pennsylvania; (6) increase the certificated station compression by 5,000 hp at its existing Compressor Station 195 in York County, Pennsylvania; (7) modify its existing Compressor Station 200 in Chester County, Pennsylvania; (8) increase the certificated station compression by 4,100 hp at its existing Compressor Station 207 in Middlesex County, New Jersey; and (9) additional modifications to tie-ins, regulators, and delivery meter stations in Pennsylvania, New Jersey, and Maryland. Transco states that it has executed binding precedent agreements with the Project Shippers for 100% of the incremental firm transportation service under the REAE Project.

Transco's application states that a water quality certificate under section 401 of the Clean Water Act is required for the project from the Pennsylvania Department of Environmental Protection. The request for certification must be submitted to the certifying agency and to the Commission concurrently. Proof of the certifying agency's receipt date must be filed no later than five (5) days after the request is submitted to the certifying agency.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Any questions concerning this application should be directed to Nick Baumann, at (713) 215-3383, P.O. Box 1396, Houston, Texas 77251, or by email at nick.baumann@williams.com.

Pursuant to section 157.9 of the Commission's Rules of Practice and Procedure,¹ within 90 days of this Notice the Commission staff will either: Complete its environmental review and place it into the Commission's public record (eLibrary) for this proceeding; or issue a Notice of Schedule for Environmental Review. If a Notice of Schedule for Environmental Review is issued, it will indicate, among other milestones, the anticipated date for the Commission staff's issuance of the final environmental impact statement (FEIS) or environmental assessment (EA) for this proposal. The filing of an EA in the Commission's public record for this proceeding or the issuance of a Notice of Schedule for Environmental Review will serve to notify federal and state agencies of the timing for the completion of all necessary reviews, and the subsequent need to complete all federal authorizations within 90 days of the date of issuance of the Commission staff's FEIS or EA.

¹ 18 CFR (Code of Federal Regulations) § 157.9.

Public Participation

There are two ways to become involved in the Commission's review of this project: You can file comments on the project, and you can file a motion to intervene in the proceeding. There is no fee or cost for filing comments or intervening. The deadline for filing a motion to intervene is 5:00 p.m. Eastern Time on April 30, 2021.

Comments

Any person wishing to comment on the project may do so. Comments may include statements of support or objections to the project as a whole or specific aspects of the project. The more specific your comments, the more useful they will be. To ensure that your comments are timely and properly recorded, please submit your comments on or before April 30, 2021.

There are three methods you can use to submit your comments to the Commission. In all instances, please reference the Project docket number (CP21-94-000) in your submission.

(1) You may file your comments electronically by using the eComment feature, which is located on the Commission's website at www.ferc.gov under the link to Documents and Filings. Using eComment is an easy method for interested persons to submit brief, text-only comments on a project;

(2) You may file your comments electronically by using the eFiling feature, which is located on the Commission's website (www.ferc.gov) under the link to Documents and Filings. With eFiling, you can provide comments in a variety of formats by attaching them as a file with your submission. New eFiling users must first create an account by clicking on “eRegister.” You will be asked to select the type of filing you are making; first select “General” and then select “Comment on a Filing”; or

(3) You can file a paper copy of your comments by mailing them to the following address below.² Your written comments must reference the Project docket number (CP21-94-000).

² Hand delivered submissions in docketed proceedings should be delivered to Health and Human Services, 12225 Wilkins Avenue, Rockville, Maryland 20852.

Kimberly D. Bose, Secretary, Federal Energy Regulatory Commission, 888 First Street NE, Washington, DC 20426

The Commission encourages electronic filing of comments (options 1 and 2 above) and has eFiling staff available to assist you at (202) 502-8258 or FercOnlineSupport@ferc.gov.

Persons who comment on the environmental review of this project will be placed on the Commission's environmental mailing list, and will receive notification when the environmental documents (EA or EIS) are issued for this project and will be notified of meetings associated with the Commission's environmental review process.

The Commission considers all comments received about the project in determining the appropriate action to be taken. However, the filing of a comment alone will not serve to make the filer a party to the proceeding. To become a party, you must intervene in the proceeding. For instructions on how to intervene, see below.

Interventions

Any person, which includes individuals, organizations, businesses, municipalities, and other entities,³ has the option to file a motion to intervene in this proceeding. Only intervenors have the right to request rehearing of Commission orders issued in this proceeding and to subsequently challenge the Commission's orders in the U.S. Circuit Courts of Appeal.

³ 18 CFR 385.102(d).

To intervene, you must submit a motion to intervene to the Commission in accordance with Rule 214 of the Commission's Rules of Practice and Procedure ⁴ and the regulations under the NGA ⁵ by the intervention deadline for the project, which is April 30, 2021. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁴ 18 CFR 385.214.

⁵ 18 CFR 157.10.

All timely, unopposed motions to intervene are automatically granted by operation of Rule 214(c)(1). Motions to intervene that are filed after the intervention deadline are untimely and may be denied. Any late-filed motion to intervene must show good cause for being late and must explain why the time limitation should be waived and provide justification by reference to factors set forth in Rule 214(d) of the Commission's Rules and Regulations. A person obtaining party status will be placed on the service list maintained by the Secretary of the Commission and will receive copies (paper or electronic) of all documents filed by the applicant and by all other parties.

There are two ways to submit your motion to intervene. In both instances, please reference the Project docket number (CP21-94-000) in your submission.

(1) You may file your motion to intervene by using the Commission's eFiling feature, which is located on the Commission's website (www.ferc.gov) under the link to Documents and Filings. New eFiling users must first create an account by clicking on “eRegister.” You will be asked to select the type of filing you are making; first select “General” and then select “Intervention.” The eFiling feature includes a document-less intervention option; for more information, visit https://www.ferc.gov/docsfiling/efiling/document-less-intervention.pdf; or

(2) You can file a paper copy of your motion to intervene, along with three copies, by mailing the documents to the address below.⁶ Your motion to intervene must reference the Project docket number (CP21-94-000).

Kimberly D. Bose, Secretary, Federal Energy Regulatory Commission, 888 First Street NE, Washington, DC 20426

⁶ Hand delivered submissions in docketed proceedings should be delivered to Health and Human Services, 12225 Wilkins Avenue, Rockville, Maryland 20852.

The Commission encourages electronic filing of motions to intervene (option 1 above) and has eFiling staff available to assist you at (202) 502-8258 or FercOnlineSupport@ferc.gov.

Motions to intervene must be served on the applicant either by mail or email at: P.O. Box 1396, Houston, Texas 77251, or by email at nick.baumann@williams.com. Any subsequent submissions by an intervenor must be served on the applicant and all other parties to the proceeding. Contact information for parties can be downloaded from the service list at the eService link on FERC Online. Service can be via email with a link to the document.

All timely, unopposed ⁷ motions to intervene are automatically granted by operation of Rule 214(c)(1).⁸ Motions to intervene that are filed after the intervention deadline are untimely, and may be denied. Any late-filed motion to intervene must show good cause for being late and must explain why the time limitation should be waived and provide justification by reference to factors set forth in Rule 214(d) of the Commission's Rules and Regulations.⁹ A person obtaining party status will be placed on the service list maintained by the Secretary of the Commission and will receive copies (paper or electronic) of all documents filed by the applicant and by all other parties.

⁷ The applicant has 15 days from the submittal of a motion to intervene to file a written objection to the intervention.

⁸ 18 CFR 385.214(c)(1).

⁹ 18 CFR 385.214(b)(3) and (d).

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docsfiling/esubscription.asp.

Intervention Deadline: 5:00 p.m. Eastern Time on April 30, 2021.

Dated: April 9, 2021.
Kimberly D. Bose,
Secretary.

[FR Doc. 2021-07866 Filed 4-15-21; 8:45 am]

BILLING CODE 6717-01-P